DEPARTMENT OF HEALTH AND HUMAN SERVICES

Administration for Children and Families

Submission for OMB Review; Comment Request

Title: Evaluation of the Head Start Oral Health Initiative.

OMB No: New Collection.

Description: The purpose of this evaluation is to examine the implementation of the Head Start Oral Health Initiative (OHI). The Office of Head Start has funded 52 programs for OHI to improve the oral-health services to young children, from birth to five, and pregnant women. The funded programs will develop, implement, and disseminate culturally sensitive, innovative, and empirically based best practices for oral health in Head Start. The evaluation will examine information on approaches taken by the 52 individual programs and the implementation of the approaches, including challenges faced, as well as facilitating factors, and create a uniform method for collecting administrative information across all sites.

Respondents: Head Start directors, staff, and teachers who are implementing OHI; community organizations that have partnered with Head Start programs implementing OHI; and parents or guardians of children who attend Head Start programs where OHI is being implemented.

Annual Burden Estimates
Instrument | Number of respondents | Number of responses per respondent | Average burden hours per response | Total burden hours
Head Start Directors: Telephone Interview | 52 | 1 | 1.5 | 78
Head Start Staff: Program Recordkeeping System | 52 | 184 | 1.08 | 10,333
Head Start Directors: Site Visit Interview | 16 | 1 | 1.5 | 24
Head Start Staff: Site Visit Interview | 48 | 1 | 1.5 | 72
Head Start Community Partner: Interview | 80 | 1 | 1 | 80
Head Start Parent: Focus Group | 160 | 1 | 1.5 | 240

Estimated Total Annual Burden Hours: 10,827.

Additional Information: Copies of the proposed collection may be obtained by writing to the Administration for Children and Families, Office of Administration, Office of Information Services, 370 L'Enfant Promenade, SW., Washington, DC 20447, Attn: ACF Reports Clearance Officer. All requests should be identified by the title of the information collection. E-mail address: infocollection@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Attn: Desk Officer for ACF, E-mail address: Katherine_T._Astrich@omb.eop.gov.

Dated: August 28, 2006.
Robert Sargis,
Reports Clearance Officer.

[FR Doc. 06-7366 Filed 8-30-06; 8:45 am]

BILLING CODE 4184-01-M